DEPARTMENT OF HEALTH AND HUMAN SERVICES

Determination Concerning a Petition To Add a Class of Employees to the Special Exposure Cohort

AGENCY: National Institute for Occupational Safety and Health (NIOSH), Department of Health and Human Services (HHS).

ACTION: Notice.

SUMMARY: HHS gives notice of a determination concerning a petition to add a class of employees from the Piqua Organic Moderated Reactor, Piqua, Ohio, to the Special Exposure Cohort (SEC) under the Energy Employees Occupational Illness Compensation Program Act of 2000 (EEOICPA), 42 U.S.C. 7384q. On October 26, 2011, the Secretary of HHS determined that the following class of employees does not meet the statutory criteria for addition to the SEC as authorized under EEOICPA:

All employees of the Department of Energy, its predecessor agencies, and their contractors and subcontractors who worked in any location at the Piqua Organic Moderated Reactor during the operational period from January 1, 1963 through May 1, 1966.

FOR FURTHER INFORMATION CONTACT: Stuart L. Hinnefeld, Director, Division of Compensation Analysis and Support, National Institute for Occupational Safety and Health (NIOSH), 4676 Columbia Parkway, MS C-46, Cincinnati, OH 45226, Telephone 1-(877) 222-7570. Information requests can also be submitted by email to DCAS@CDC.GOV.

John Howard,
Director, National Institute for Occupational Safety and Health.

[FR Doc. 2011-29169 Filed 11-9-11; 8:45 am]

BILLING CODE 4163-19-P